DEPARTMENT OF COMMERCE

National Oceanic and Atmospheric Administration

RIN 0648-XE475

SAW-SARC 61 Public Meeting

AGENCY: National Marine Fisheries Service (NMFS), National Oceanic and Atmospheric Administration (NOAA), Commerce.

ACTION: Notice of public meeting.

SUMMARY: NMFS and the Northeast Regional Stock Assessment Workshop (SAW) will convene the 61st SAW Stock Assessment Review Committee for the purpose of reviewing the stock assessment of Atlantic surfclam. The Northeast Regional SAW is a formal scientific peer-review process for evaluating and presenting stock assessment results to managers for fish stocks in the offshore U.S. waters of the northwest Atlantic. Assessments are prepared by SAW working groups and reviewed by an independent panel of stock assessment experts called the Stock Assessment Review Committee, or SARC. The public is invited to attend the presentations and discussions between the review panel and the scientists who have participated in the stock assessment process.

DATES: The public portion of the Stock Assessment Review Committee Meeting will be held from July 19, 2016, through July 21, 2016. The meeting will commence on July 19, 2016, at 10 a.m. Eastern Daylight Time. Please see SUPPLEMENTARY INFORMATION for the daily meeting agenda.

ADDRESSES: The meeting will be held in the S.H. Clark Conference Room in the Aquarium Building of the National Marine Fisheries Service, Northeast Fisheries Science Center (NEFSC), 166 Water Street, Woods Hole, MA 02543.

FOR FURTHER INFORMATION CONTACT: Sheena Steiner, 508-495-2177; email: sheena.steiner@noaa.gov; or, James Weinberg, 508-495-2352; email: james.weinberg@noaa.gov.

SUPPLEMENTARY INFORMATION: For further information, please visit the NEFSC Web site at http://www.nefsc.noaa.gov. For additional information about the SARC meeting and the stock assessment review of Atlantic surfclam, please visit the NMFS/NEFSC SAW Web page at http://www.nefsc.noaa.gov/saw/.

DAILY MEETING AGENDA—SAW/SARC 61 Benchmark Stock Assessment for Atlantic Surfclam (Subject to Change. All Times Are Approximate, and May Be Changed at the Discretion of the SARC Chair).

Tuesday, July 19, 2016

10 a.m.-10:30 a.m. | Welcome Introductions | James Weinberg, SAW Chair.
10:30 a.m.-12 p.m. | Surfclam Assessment Presentation | Dan Hennen.
12 p.m.-1 p.m. | Lunch
1 p.m.-3:30 p.m. | Surfclam Presentation (cont.) | Dan Hennen.
3:30 p.m.-3:45 p.m. | Break
3:45 p.m.-5:45 p.m. | Surfclam SARC Discussion | Michael Wilberg, SARC Chair.
5:45 p.m.-6 p.m. | Public Comment Period

Wednesday, July 20, 2016

9 a.m.-10:45 a.m. | Revisit with Presenters | SARC Chair.
10:45 a.m.-11 a.m. | Break
11 a.m.-11:45 a.m. | Revisit with Presenters | SARC Chair.
11:45 a.m.-12 p.m. | Public Comment Period
12 p.m.-1:15 p.m. | Lunch
1:15 p.m.-4 p.m. | Review/Edit Assessment Summary Report | SARC Chair.
4-4:15 p.m. | Break
4:15 p.m.-5 p.m. | SARC Report Writing | SARC Chair.

Thursday, July 21, 2016

9 a.m.-5 p.m. | SARC Report Writing | SARC Chair.

The meeting is open to the public; however, during the `SARC Report Writing' sessions on July 20 and 21, the public should not engage in discussion with the SARC.

Special Accommodations

This meeting is physically accessible to people with disabilities. Special requests should be directed to Sheena Steiner at the NEFSC, 508-495-2177, at least 5 days prior to the meeting date.

Dated: March 10, 2016.
Emily H. Menashes,
Acting Director, Office of Sustainable Fisheries, National Marine Fisheries Service.

[FR Doc. 2016-05801 Filed 3-14-16; 8:45 am]

BILLING CODE 3510-22-P